DEPARTMENT OF JUSTICE

Bureau of Prisons

28 CFR Part 540

[BOP-1096-P]

RIN 1120-AA92

Occupational Education Programs

AGENCY: Bureau of Prisons, Justice.

ACTION: Proposed rule.

SUMMARY: In this document, the Bureau of Prisons is proposing to amend its regulations on occupational education programs in order to exclude, with certain exceptions, inmates currently under an order of deportation, exclusion, or removal, and to remove obsolete or redundant provisions. This amendment is intended to help ensure that available educational opportunities for occupational training ordinarily will be allocated to inmates who will be returning to the community within, rather than outside, the United States upon release.

DATES: Comments due by September 15, 2000.

ADDRESSES: Rules Unit, Office of General Counsel, Bureau of Prisons, HOLC Room 754, 320 First Street, NW., Washington, DC 20534.

FOR FURTHER INFORMATION CONTACT: Roy Nanovic, Office of General Counsel, Bureau of Prisons, phone (202) 514-6655.

SUPPLEMENTARY INFORMATION: The Bureau of Prisons is proposing to amend its regulations on occupational education programs (28 CFR part 544, subpart F). Current regulations on this subject were published in the Federal Register on March 29, 1988 (53 FR 10204).

The Bureau's occupational education programs are designed to enhance post-release employment opportunities for inmates with occupational training needs. The Bureau is revising its regulations on occupational education programs in order to exclude, with certain exceptions, inmates currently under an order of deportation, exclusion, or removal, and to remove obsolete or redundant provisions. An inmate or detainee who is currently under an order of deportation, exclusion, or removal may be considered for placement in an occupational education program if the Attorney General has determined that the inmate or detainee cannot be removed from the United States because the designated country of removal will not accept his/her return. Under internal agency procedures, the Immigration and Naturalization Service is responsible for informing the Bureau when an inmate/detainee's designated country of removal will not accept his/her return. In restricting other inmates under an order of deportation, removal, or exclusion from consideration, the Bureau intends to help ensure that available educational opportunities for occupational training ordinarily will be allocated to inmates who will be returning to the community within, rather than outside, the United States upon release.

In revising the regulations, the Bureau has included procedures for making application similar to revised procedures for postsecondary education programs (see the Bureau's proposed rule published elsewhere in today's Federal Register) and has reorganized the provisions in order to remove obsolete or redundant provisions and to improve general clarity.

Interested persons may participate in this proposed rulemaking by submitting data, views, or arguments in writing to the Rules Unit, Office of General Counsel, Bureau of Prisons, 320 First Street, NW., HOLC Room 754, Washington, DC 20534. Comments received during the comment period will be considered before final action is taken. Comments received after the expiration of the comment period will be considered to the extent practicable. All comments received remain on file for public inspection at the above address. The proposed rule may be changed in light of the comments received. No oral hearings are contemplated.

Executive Order 12866

This rule falls within a category of actions that the Office of Management and Budget (OMB) has determined not to constitute “significant regulatory actions” under section 3(f) of Executive Order 12866 and, accordingly, it was not reviewed by OMB.

Executive Order 13132

This regulation will not have substantial direct effects on the States, on the relationship between the national government and the States, or on distribution of power and responsibilities among the various levels of government. Therefore, in accordance with Executive Order 13132, it is determined that this rule does not have sufficient federalism implications to warrant the preparation of a Federalism Assessment.

Regulatory Flexibility Act

The Director of the Bureau of Prisons, in accordance with the Regulatory Flexibility Act (5 U.S.C. 605(b)), has reviewed this regulation and by approving it certifies that this regulation will not have a significant economic impact upon a substantial number of small entities for the following reasons: This rule pertains to the correctional management of offenders committed to the custody of the Attorney General or the Director of the Bureau of Prisons, and its economic impact is limited to the Bureau's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Plain Language Instructions

We try to write clearly. If you can suggest how to improve the clarity of these regulations, call or write Roy Nanovic at the address listed above.

List of Subjects in 28 CFR Part 544

Prisoners.

Kathleen Hawk Sawyer,
Director, Bureau of Prisons.

Accordingly, pursuant to the rulemaking authority vested in the Attorney General in 5 U.S.C. 552(a) and delegated to the Director, Bureau of Prisons in 28 CFR 0.96(o), part 544 in subchapter C of 28 CFR, chapter V is proposed to be amended as set forth below.

SUBCHAPTER C—INSTITUTIONAL MANAGEMENT

PART 544—EDUCATION

1. The authority citation for 28 CFR part 544 continues to read as follows:

Authority: 5 U.S.C. 301; 18 U.S.C. 3621, 3622, 3624, 4001, 4042, 4081, 4082 (Repealed in part as to offenses committed on or after November 1, 1987), 5006-5024 (Repealed October 12, 1984 as to offenses committed after that date), 5039; 28 U.S.C. 509, 510; 28 CFR 0.95-0.99.

2. Subpart F is revised to read as follows:

Subpart F—Occupational Education Programs
Sec.
544.50 Purpose and scope.
544.51 Procedures.
544.52 Levels of Occupational Education Programs.

Subpart F—Occupational Education Programs

§ 544.50 Purpose and scope.

The Bureau of Prisons offers eligible inmates the opportunity under its occupational education programs to participate in occupational education courses for the purpose of obtaining marketable skills designed to enhance post-release employment opportunities.

§ 544.51 Procedures.

(a) An inmate is eligible to participate in an institution's occupational education program unless the inmate is currently under an order of deportation, exclusion, or removal. However, an inmate or detainee who is currently under an order of deportation, exclusion, or removal may be considered for placement in an occupational education program if the Attorney General has determined that the inmate or detainee cannot be removed from the United States because the designated country of removal will not accept his/her return.

(b) An eligible inmate must apply through the inmate's unit team for placement consideration. The unit team is responsible for determining that the occupational education course is appropriate for the inmate's apparent needs.

§ 544.52 Levels of Occupational Education Programs.

Occupational education programs are offered at the certificate level and the classroom level. Each level may include the following types of training:

(a) Exploratory Training. Exploratory training is a study of occupations and industries for the purpose of providing the student with a general knowledge of the occupation and the world of work, rather than specific skill development.

(b) Marketable Training. Marketable training provides specific entry-level or advanced job skills. Marketable training may include “live work”, that is, the training would result in a product or service produced by the inmate for actual use by the institution, FPI, another federal agency, or community service project.

(c) Apprentice Training. Apprentice training provides an inmate the opportunity to participate in training which prepares the inmate for employment in various trades through structured apprenticeship programs approved at the state and national levels by the Bureau of Apprenticeship and Training, U.S. Department of Labor.

[FR Doc. 00-18049 Filed 7-14-00; 8:45 am]

BILLING CODE 4410-05-P